DEPARTMENT OF TRANSPORTATION

Federal Aviation Administration

14 CFR Part 39

[Docket No. 2002-SW-42-AD; Amendment 39-12936; AD 2002-17-51]

RIN 2120-AA64

Airworthiness Directives; Agusta S.p.A. Model A109E Helicopters

AGENCY: Federal Aviation Administration, DOT.

ACTION: Final rule; request for comments.

SUMMARY: This document publishes in the Federal Register an amendment adopting Airworthiness Directive (AD) 2002-17-51, which was sent previously to all known U.S. owners and operators of Agusta S.p.A. (Agusta) helicopters by individual letters. This AD requires installing a placard in the helicopter and marking the airspeed indication at 140 knots indicated airspeed (KIAS) to indicate a reduction in the helicopter never-exceed speed (Vne) of 28 KIAS; visually checking the tail roter blades on both sides for a crack before each start of the helicopter engines; visually inspecting the tail rotor blades with a 5x or higher magnifying glass at certain time intervals and anytime an increase in vibration occurs, and conducting a dye-penetrant inspection if necessary; and replacing any cracked tail rotor blade with an airworthy tail roter blade. The actions specified by this AD are intended to prevent failure of the tail roter blade and subsequent loss of control of the helicopter.

EFFECTIVE DATE: Effective November 21, 2002, to all persons except those persons to whom it was made immediately effective by Emergency AD 2002-17-51, issued on August 19, 2002, which contained the requirements of this amendment.

The incorporation by reference of certain publications listed in the regulations is approved by the Director of the Federal Register as of November 21, 2002.

Comments for inclusion in the Rules Docket must be received on or before January 6, 2003.

ADDRESSES: Submit comments in triplicate to the Federal Aviation Administration (FAA), Office of the Regional Counsel, Southwest Region, Attention: Rules Docket No. 2002-SW-42-AD, 2601 Meacham Blvd., Room 663, Fort Worth, Texas 76137. You may also send comments electronically to the Rules Docket at the following address: 9-asw-adcomments@faa.gov.

The applicable service information may be obtained from Agusta, 21017 Cascina Costa di Samarate (VA) Italy, Via Giovanni Agusta 520, telephone 39 (0331) 229111, fax 39 (0331) 229605-222595. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Jim Grigg, Aviation Safety Engineer, FAA, Rotorcraft Directorate, Rotorcraft Standards Staff, Fort Worth, Texas 76193-0110, telephone (817) 222-5490, fax (817) 222-5961.

SUPPLEMENTARY INFORMATION: On July 9, 2002, the FAA issued Emergency AD 2002-14-51, Docket 2002-SW-35-AD, which applied to Agusta Model A109E and A119 helicopters. That AD required, before each flight, visually checking each tail rotor blade on both sides for a crack. That AD also required, within 5 hours TIS and thereafter at intervals not to exceed 5 hours TIS, inspecting each tail rotor blade for a crack with a 5x or higher magnifying glass. If you were unable to determine by the visual inspection whether there was a crack, the AD required conducting a dye-penetrant inspection. Replacing any cracked tail rotor blade with an airworthy blade was also required before further flight. After issuance of that Emergency AD, the manufacturer determined, and we agreed, that reducing the Vne by 28 KIAS to 140 KIAS is necessary to reduce the tail rotor loading. The reduction in Vne supports the increase in the visual inspection interval from 5 hours TIS to 25 hours TIS. Further, we have determined that additional modifications are necessary for the Agusta Model A119 helicopters that are not required for the Model A109E helicopters, so on August 19, 2002, we superseded AD 2002-14-51 and issued a separate Emergency AD for each model. Emergency AD 2002-17-51, applicable to August Model A109E helicopters, requires reducing the helicopter Vne; checking and inspecting the tail rotor blades for cracks; and replacing any cracked tail rotor blades.

The FAA has reviewed Agusta Alert Bolletino Tecnico No. 109EP-30, Revision A, dated July 25, 2002 (BT), which describes procedures for checking and inspecting both sides of the tail rotor blades, part number (P/N) 109-8132-01-111, for a crack and reducing the helicopter Vne. The Ente Nazionale per l'Aviazione Civile, the airworthiness authority for Italy, classified the BT as mandatory and issued AD No. 2002-384, dated July 29, 2002, to ensure the continued airworthiness of this helicopter in Italy.

Since the unsafe condition described is likely to exist or develop on other Agusta Model A109E helicopters of the same type design, the FAA issued Emergency AD 2002-17-51 to prevent failure of the tail rotor blade and subsequent loss of control of the helicopter. The AD requires:

• Installing a placard in the helicopter and marking the airspeed indication at 140 KIAS to indicate a reduction in the helicopter Vne of 28 KIAS before further flight;

• Visually checking the tail rotor blades on both sides for a crack before each start of the helicopter engines;

• Visually inspecting the tail rotor blades with a 5× or higher magnifying glass within 25 hours TIS and thereafter at intervals not to exceed 25 hours TIS, and anytime an increase in vibration occurs, and conducting a dye-penetrant inspection if you are unable to determine by the visual inspection whether or not there is a crack; and

• Replacing any cracked tail rotor blade with an airworthy tail rotor blade before further flight.

The actions must be accomplished in accordance with the BT described previously. The short compliance time involved is required because the previously described critical unsafe condition can adversely affect the controllability of the helicopter. Therefore, reducing the helicopter Vne; performing checks and inspections of the tail rotor blades for cracks; and replacing any cracked tail rotor blades are required before further flight, and this AD must be issued immediately.

Since it was found that immediate corrective action was required, notice and opportunity for prior public comment thereon were impracticable and contrary to the public interest, and good cause existed to make the AD effective immediately by individual letters issued on August 19, 2002, to all known U.S. owners and operators of Agusta Model A109E helicopters. These conditions still exist, and the AD is hereby published in the Federal Register as an amendment to 14 CFR 39.13 to make it effective to all persons.

The FAA estimates that 48 helicopters of U.S. registry will be affected by this AD, that it will take approximately 0.5 work hour per helicopter to accomplish the visual inspection, 1 work hour per helicopter to accomplish the dye-penetrant inspection, and 1 work hour per helicopter to replace the tail rotor blade, if necessary. The average labor rate is $60 per work hour. Required parts will cost approximately $9,765 per tail rotor blade. Based on these figures, the total cost impact of the AD on U.S. operators is estimated to be $506,160 per year, assuming, for each helicopter, 24 visual inspections, 1 tail rotor blade replacement, and no dye-penetrant inspections. The manufacturer states in its BT that they will provide the replacement blades at no cost to the owner/operator.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2002-SW-42-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2002-17-51 Augusta S.p.A.: Amendment 39-12936. Docket No. 2002-SW-42-AD. Supersedes Emergency AD 2002-14-51, Docket No. 2002-SW-35-AD.

Applicability: Model A109E helicopters, with tail rotor blade, part number 109-8132-01-111, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (e) of this AD. The request should include an assessment of the effect of the modification, alteration, or repair on the unsafe condition addressed by this AD; and if the unsafe condition has not been eliminated, the request should include specific proposed actions to address it.

Compliance: Required as indicated, unless accomplished previously.

To prevent failure of the tail rotor blade and subsequent loss of control of the helicopter, accomplish the following:

(a) Before further flight, install a placard in the helicopter and mark the airspeed indicator at 140 knots indicated airspeed (KIAS) to indicate a reduction in the helicopter never exceed speed (Vne) of 28 KIAS in accordance with the Compliance Instructions, Part I, of Agusta Alert Bollettino Tecnico No. 109EP-30, Revision A, dated July 25, 2002 (BT).

(b) Before each start of the helicopter engines, visually check both sides of each tail rotor blade for a crack in the area depicted in Figure 1 of this AD. And owner/operator (pilot) holding at least a private pilot certificate may perform this visual check and must enter compliance with this paragraph into the aircraft maintenance records in accordance with 14 CFR 43.11 and 91.417(d)(2)(v). See Figure 1:

Note 2: Paint irregularities on the tail rotor blade may be due to a crack.

(c) Within 25 hours time-in-service (TIS), and thereafter at intervals not to exceed 25 hours TIS, and anytime there is an increase in vibration levels, using a 5x or higher magnifying glass, visually inspect each tail rotor blade for a crack before further flight in accordance with the Compliance Instructions, Part III, paragraphs 1. through 5., of the BT. Reporting to Agusta Service Engineering is not required. If you are unable to determine by the visual inspection whether there is a crack, dye penetrant inspect the tail rotor blade for a crack in accordance with the Compliance Instructions, Part III, paragraph 6., of the BT.

(d) Replace any cracked tail rotor blade with an airworthy blade before further flight.

(e) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 3: Information concerning the existence of approved alternative methods of compliance with this AD, if any, may be obtained from the Regulations Group.

(f) Special flight permits will not be issued.

(g) Installing the placard and inspecting for cracks shall be done in accordance with the Compliance Instructions, Part I and Part III, paragraphs 1 through 6, of Agusta Alert Bollettino Tecnico No. 109EP-30, Revision A, dated July 25, 2002. This incorporation by reference was approved by the Director of the Federal Register in accordance with 5 U.S.C. 552(a) and 1 CFR part 51. Copies may be obtained from Agusta, 21017 Cascina Costa di Samarate (VA) Italy, Via Giovanni Agusta 520, telephone 39 (0331) 229111, fax 39 (0331) 229605-222595. Copies may be inspected at the FAA, Office of the Regional Counsel, Southwest Region, 2601 Meacham Blvd., Room 663, Fort Worth, Texas 76137; or at the Office of the Federal Register, 800 North Capitol Street, NW., suite 700, Washington, DC.

(h) This amendment becomes effective on November 21, 2002, to all persons except those persons to whom it was made immediately effective by Emergency AD 2002-17-51, issued August 19, 2002, which contained the requirements of this amendment.

Note 4: The subject of this AD is addressed in Ente Nazionale per l'Aviazione Civile (Italy) AD No. 2002-384, dated July 29, 2002.

Issued in Fort Worth, Texas, on October 17, 2002.
David A. Downey,
Manager, Rotorcraft Directorate, Aircraft Certification Service.

[FR Doc. 02-27792 Filed 11-5-02; 8:45 am]

BILLING CODE 4910-13-M